INTERNATIONAL TRADE COMMISSION

[Investigation No. 731-TA-1092 (Review)]

Diamond Sawblades and Parts Thereof From China; Determination To Conduct a Full Five-Year Review and Scheduling of the Review

AGENCY: United States International Trade Commission.

ACTION: Notice.

SUMMARY: The Commission hereby gives notice that it will proceed with a full review pursuant to section 751(c) of the Tariff Act of 1930 (19 U.S.C. 1675(c)) (the Act) to determine whether revocation of the antidumping duty order on diamond sawblades and parts thereof from China would be likely to lead to continuation or recurrence of material injury within a reasonably foreseeable time. The Commission also gives notice of the scheduling of the full review pursuant to section 751(c)(5) of the Tariff Act of 1930 (19 U.S.C. 1675(c)(5)). For further information concerning the conduct of this review and rules of general application, consult the Commission's Rules of Practice and Procedure, part 201, subparts A through E (19 CFR part 201), and part 207, subparts A, D, E, and F (19 CFR part 207).

DATES: Effective Date: January 22, 2015.

FOR FURTHER INFORMATION CONTACT: Michael Szustakowski (202) 205-3169, Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for this review may be viewed on the Commission's electronic docket (EDIS) at http://edis.usitc.gov.

SUPPLEMENTARY INFORMATION:

Background.—On December 2, 2013, the Commission instituted a five-year review on the antidumping duty order on imports of diamond sawblades and parts thereof from China (78 FR 72116, December 2, 2013). The U.S. Department of Commerce initiated its five-year review of the order on the same day (78 FR 72061, December 2, 2013). The Diamond Sawblades Manufacturers' Coalition (DSMC), an association of domestic producers of diamond sawblades, filed an action in the U.S. Court of International Trade (CIT) to declare that the five-year reviews that Commerce initiated and the Commission instituted were ultra vires because they began prematurely. On September 23, 2014, the CIT directed the Commission to cease further work on the five-year review it previously instituted, and to instead institute a review on November 4, 2014. Prior to terminating proceedings, the Commission had voted to conduct a full review.

Effective November 4, 2014, the Commission rescinded the previously instituted five-year review and instituted the current review (79 FR 65420, November 4, 2014). The institution notice for the current review gave notification that the Commission reserved the right to waive its regulations concerning filing of comments on whether to conduct an expedited review. The Commission stated in the notice that both domestic and respondent interested parties responded to the notice of institution it published on December 2, 2013, and that in light of these responses the Commission determined that conducting a full review was appropriate.

In its November 4, 2014 notice, the Commission did not require those interested parties that submitted adequate responses to the December 2, 2013 institution notice to submit full responses. Instead, the Commission stated that each such party could submit a response no later than December 4, 2014 indicating that: (1) It incorporated the contents of its response to the December 2, 2013 institution notice and (2) that it was willing to participate in this review by providing information requested to the Commission. Any such party was also allowed to provide additional information of the nature specified in the notice. Parties that did not submit an adequate response to the December 2, 2013 institution notice were also allowed to provide additional information of the nature specified in the notice no later than December 4, 2014.

The notice also stated that should those parties that submitted adequate responses to the December 2, 2013 institution notice indicate their desire to participate in this review, the Commission intended to issue a notice stating that it will conduct a full review. In light of this, the Commission reserved the right to waive the process specified in 19 CFR 207.62(b) for submitting comments to the Commission on whether to conduct an expedited review.

Three sets of parties provided adequate responses to the previously instituted reviews: (1) DSMC and its individual members (U.S. producers of the domestic like product), (2) Husqvarna Construction Products North American, Inc. (U.S. producer of the domestic like product and importer of subject merchandise) and Husqvarna (Hebei) Co., Ltd. (foreign producer of the subject merchandise), and (3) Saint-Gobain Abrasives-North America (importer of the subject merchandise) and Saint-Gobain Abrasives (Shanghai) Co. Ltd. (foreign producer of the subject merchandise).

These same parties provided responses to the current notice of institution. As requested by the notice, all parties incorporated the contents of their responses to the December 2, 2013 notice and stated their willingness to participate in this review by providing information requested by the Commission. No new party submitted a response to the current notice of institution.

The requirements listed in the Commission's November 4, 2014 notice have been fulfilled. Accordingly, the Commission waives the process specified in 19 CFR 207.62(b) for submitting comments to the Commission on whether to conduct an expedited review, and determines that a full review pursuant to section 751(c)(5) of the Act should proceed.

Participation in the review and public service list.—Persons, including industrial users of the subject merchandise and, if the merchandise is sold at the retail level, representative consumer organizations, wishing to participate in this review as parties must file an entry of appearance with the Secretary to the Commission, as provided in section 201.11 of the Commission's rules, by 45 days after publication of this notice. A party that filed a notice of appearance following publication of the Commission's notice of institution of the review need not file an additional notice of appearance. The Secretary will maintain a public service list containing the names and addresses of all persons, or their representatives, who are parties to the review.

Limited disclosure of business proprietary information (BPI) under an administrative protective order (APO) and BPI service list.—Pursuant to section 207.7(a) of the Commission's rules, the Secretary will make BPI gathered in this review available to authorized applicants under the APO issued in the review, provided that the application is made by 45 days after publication of this notice. Authorized applicants must represent interested parties, as defined by 19 U.S.C. 1677(9), who are parties to the review. A party granted access to BPI following publication of the Commission's notice of institution of the review need not reapply for such access. A separate service list will be maintained by the Secretary for those parties authorized to receive BPI under the APO.

Staff report.—The prehearing staff report in the review will be placed in the nonpublic record on Friday, June 3, 2015, and a public version will be issued thereafter, pursuant to section 207.64 of the Commission's rules.

Hearing.—The Commission will hold a hearing in connection with the review beginning at 9:30 a.m. on Tuesday, June 23, 2015, at the U.S. International Trade Commission Building. Requests to appear at the hearing should be filed in writing with the Secretary to the Commission on or before Thursday, June 18, 2015. A nonparty who has testimony that may aid the Commission's deliberations may request permission to present a short statement at the hearing. All parties and nonparties desiring to appear at the hearing and make oral presentations should attend a prehearing conference to be held at 9:30 a.m. on Monday, June 22, 2015, at the U.S. International Trade Commission Building. Oral testimony and written materials to be submitted at the public hearing are governed by sections 201.6(b)(2), 201.13(f), 207.24, and 207.66 of the Commission's rules. Parties must submit any request to present a portion of their hearing testimony in camera no later than 7 business days prior to the date of the hearing.

Written submissions.—Each party to the review may submit a prehearing brief to the Commission. Prehearing briefs must conform with the provisions of section 207.65 of the Commission's rules; the deadline for filing is Friday, June 12, 2015. Parties may also file written testimony in connection with their presentation at the hearing, as provided in section 207.24 of the Commission's rules, and posthearing briefs, which must conform with the provisions of section 207.67 of the Commission's rules. The deadline for filing posthearing briefs is Thursday, July 2, 2015. In addition, any person who has not entered an appearance as a party to the review may submit a written statement of information pertinent to the subject of the review on or before Thursday, July 2, 2015. On Thursday, July 30, 2015, the Commission will make available to parties all information on which they have not had an opportunity to comment. Parties may submit final comments on this information on or before Monday, August 3, 2015, but such final comments must not contain new factual information and must otherwise comply with section 207.68 of the Commission's rules. All written submissions must conform with the provisions of section 201.8 of the Commission's rules; any submissions that contain BPI must also conform with the requirements of sections 201.6, 207.3, and 207.7 of the Commission's rules. The Commission's Handbook on E-Filing, available on the Commission's Web site at http://edis.usitc.gov, elaborates upon the Commission's rules with respect to electronic filing.

Additional written submissions to the Commission, including requests pursuant to section 201.12 of the Commission's rules, shall not be accepted unless good cause is shown for accepting such submissions, or unless the submission is pursuant to a specific request by a Commissioner or Commission staff.

In accordance with sections 201.16(c) and 207.3 of the Commission's rules, each document filed by a party to the review must be served on all other parties to the review (as identified by either the public or BPI service list), and a certificate of service must be timely filed. The Secretary will not accept a document for filing without a certificate of service.

Authority: This review is being conducted under authority of title VII of the Tariff Act of 1930; this notice is published pursuant to section 207.62 of the Commission's rules.

By order of the Commission.
Issued: January 26, 2015.
Lisa R. Barton,
Secretary to the Commission.

[FR Doc. 2015-01783 Filed 1-29-15; 8:45 am]

BILLING CODE 7020-02-P